DEPARTMENT OF COMMERCE

National Oceanic and Atmospheric Administration

RTID 0648-XV182

Availability of Draft NOAA Education Strategic Plan

AGENCY: Education Council, National Oceanic and Atmospheric Administration (NOAA), Department of Commerce.

ACTION: Notice of availability; request for comments.

SUMMARY: The National Oceanic and Atmospheric Administration (NOAA) publishes this notice to solicit comments on the draft 2020-2040 NOAA Education Strategic Plan (Plan). NOAA received broad legislative authority from Congress through the America COMPETES Act (2007, 2010) and the American Innovation and Competitiveness Act (2017) to conduct, develop, support, promote, and coordinate formal and informal education activities at all levels to enhance public awareness and understanding of ocean, coastal, Great Lakes, and atmospheric science and stewardship by the general public and other coastal stakeholders, including underrepresented groups in ocean and atmospheric science and policy careers. The legislative authority requires NOAA to develop a 20 year plan that is updated every 5 years. This Plan updates the goals for NOAA Education established in the 2015-2035 Education Strategic Plan. NOAA is seeking broad public review of the Plan and encourages all stakeholders and users to review the Plan and provide comments. All comments received will be reviewed and considered in the final drafting of the Plan.

DATES: Comments must be received on or before July 2, 2020.

ADDRESSES: The draft Plan will be available on the following website: https://www.noaa.gov/office-education/noaa-education-council/strategic-planning-evaluation.

You may submit comments on this document by the following method:

Electronic Submission: Submit comments via email to Education.Plan@noaa.gov. Please include the identifier, “Education Plan Public Comment” in the subject line.

FOR FURTHER INFORMATION CONTACT: Andrea Sassard, Education Specialist, NOAA Office of Education, (202) 482-2947, andrea.sassard@noaa.gov.

SUPPLEMENTARY INFORMATION: NOAA's Education Council is soliciting general comments on the NOAA Education Strategic Plan, which describes NOAA's education goals and strategies. The Plan focuses on conducting, developing, supporting, promoting, and coordinating education activities to enhance awareness and understanding of mission-related sciences.

Since its creation, an important role for NOAA has been imparting scientific knowledge of the Earth's natural systems to benefit society and support the agency's mission. During this time, education was guided by the vision of leadership, the findings of researchers, the mandates of legislation for programs within NOAA, and to respond to the needs of society.

In 2007, Congress officially recognized the role of education in NOAA with the passage of the America COMPETES Act (Pub. L. 110-69). This legislation states: “The Administrator, appropriate National Oceanic and Atmospheric Administration programs, ocean atmospheric science and education experts, and interested members of the public shall develop a science education plan setting forth education goals and strategies for the Administration, as well as programmatic actions to carry out such goals and priorities over the next 20 years, and evaluate and update such plan every 5 years.”

NOAA is revising its Education Strategic Plan as specified in the America COMPETES Act and subsequent legislation. Based on NOAA's mission, strengths, and the future needs of our society, the draft plan includes five education goals:

Goal 1—Science-Informed Society: An informed society has access to, interest in, and understanding of NOAA-related sciences and their implications for current and future events.

Goal 2—Conservation & Stewardship: Individuals and communities are actively involved in stewardship behaviors and decisions that conserve, restore, and protect natural and cultural resources related to NOAA's mission.

Goal 3—Ready, Responsive, Resilient: Individuals and communities are ready, responsive, and resilient to the increasing challenges and impacts of hazardous weather, changes in climate, and other environmental threats monitored by NOAA.

Goal 4—Future Workforce: A diverse and highly skilled future workforce pursues careers in disciplines that support NOAA's mission.

Goal 5—Organizational Excellence: NOAA functions in a unified manner to support, plan, and deliver effective educational programs and partnerships that advance NOAA's mission.

NOAA welcomes comments on all aspects of the draft Plan, including any inconsistencies perceived within the Plan and any omissions of important topics or issues. This draft Plan is being issued for comment only and is not intended for interim use. For any shortcomings noted within the draft Plan, please propose specific remedies. Suggested changes will be incorporated where appropriate, and a final Plan will be posted on the NOAA Education Council website.

Please follow this format guidance for preparing and submitting comments. Using the format guidance will facilitate the processing of comments and assure that all comments are appropriately considered. Overview comments should be provided first and should be numbered. Comments that are specific to particular pages, paragraphs, or lines of the section should identify the page and line numbers to which they apply. Please number each page of your comments.

Dated: May 27, 2020.
Louisa Koch,
Director of Education, National Oceanic and Atmospheric Administration.

[FR Doc. 2020-11776 Filed 6-1-20; 8:45 am]

BILLING CODE 3510-22-P